DEPARTMENT OF THE INTERIOR

Bureau of Indian Affairs

25 CFR Part 226

[Docket No. BIA-2022-0006; 2231A2100DD/AAKC001030/A0A501010.999900; OMB Control Number 1076-0180, 1012-0004, 1012-0006]

RIN 1076-AF59

Mining of the Osage Mineral Estate for Oil and Gas

AGENCY: Bureau of Indian Affairs, Interior.

ACTION: Proposed rule; extension of public comment period.

SUMMARY: The Bureau of Indian Affairs (BIA) is extending the public comment period for the proposed rule revising the regulations governing leasing of the Osage Nation's mineral estate (“Osage Mineral Estate”) for oil and gas mining. Extending the public comment period will allow more time for the public to review the proposal and submit comments.

DATES: Proposed Regulations: The comment period for the proposed rule published on January 13, 2023 (88 FR 2430), is extended. Comments must be received by 11:59 p.m. EST on April 7, 2023.

ADDRESSES: Proposed Regulations: You may submit your comments on the proposed rule by any of the methods listed below.

• Federal Rulemaking Portal: https://www.regulations.gov. Enter “RIN 1076-AF59” in the search box and click “Search.” Follow the instructions for sending comments.

• Mail: U.S. Department of the Interior, Eastern Oklahoma Region, Bureau of Indian Affairs, Attn: Regional Director, P.O. Box 8002, Muskogee, OK 74402. All submissions must include the words “Bureau of Indian Affairs” or “BIA” and “RIN 1076-AF59.”

• Hand Delivery/Courier: U.S. Department of the Interior, Eastern Oklahoma Region, Bureau of Indian Affairs, Attn: Regional Director, 3100 W Peak Boulevard, Muskogee, OK 74402.

FOR FURTHER INFORMATION CONTACT: Oliver Whaley, Director, Office of Regulatory Affairs and Collaborative Action, Office of the Assistant Secretary—Indian Affairs, (202) 738-6065, comments@bia.gov.

SUPPLEMENTARY INFORMATION: On January 13, 2023, the BIA published a proposed rule in the Federal Register (88 FR 2430) proposing to revise 25 CFR part 226, Leasing of Osage Reservation Lands for Oil and Gas Mining, to strengthen the BIA's management and administration of the Osage Mineral Estate. The proposed rule would allow the BIA to strengthen management of the Osage Mineral Estate by updating bonding, royalty payment and reporting, production valuation and measurement, site security, and operational requirements to address changes in technology and industry standards that have occurred in the 47 years since the regulations were issued. The proposed rule would also allow the BIA to respond to recommendations made by the Office of Inspector General, U.S. Department of the Interior (OIG). The public comment period for the proposed rule is scheduled to close on Friday, March 17, 2023. To give the public additional time to review the proposed revisions and provide comments, the BIA is extending the public comment period until Friday, April 7, 2023. Comments previously submitted on the proposed rule will be fully considered in preparing the final rule and do not need to be resubmitted.

Bryan Newland,
Assistant Secretary—Indian Affairs.

[FR Doc. 2023-05452 Filed 3-16-23; 8:45 am]

BILLING CODE 4337-15-P